DEPARTMENT OF COMMERCE

National Oceanic and Atmospheric Administration

[I.D. 072904C]

Marine Mammals; File No. 1054-1731

AGENCY: National Marine Fisheries Service (NMFS), National Oceanic and Atmospheric Administration (NOAA), Commerce.

ACTION: Issuance of permit.

SUMMARY: Notice is hereby given that the University of Florida, Aquatic Animal Program, College of Veterinary Medicine, 2015 SW 16th Avenue, Gainesville, FL 32610 (Dr. Ruth Frances-Floyd, Principal Investigator), has been issued a permit to import and export marine mammal specimens for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

FOR FURTHER INFORMATION CONTACT: Amy Sloan or Jennifer Skidmore, (301)713-2289.

SUPPLEMENTARY INFORMATION: On April 30, 2004, notice was published in the Federal Register (69 FR 25374) that a request for a scientific research permit to import and export marine mammal species under NMFS jurisdiction had been submitted by the above-named organization. The requested permit has been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The Holder is authorized to receive, import, and export marine mammal specimens for research on diseases in marine mammals. Infectious disease investigations include viral pathogens such as West Nile virus, St. Louis Encephalitis virus, herpes virus, and pox viruses. Other projects include development of a marine mammal histology database and atlas, research on the effects of boat strikes on cetacean bone, and investigation into acute phase proteins in cetaceans. Cell lines may be developed from marine mammal tissues. The permit has been issued for five years.

In compliance with the National Environmental Policy Act of 1969 (42 U.S.C. 4321 et seq.), a final determination has been made that the activity proposed is categorically excluded from the requirement to prepare an environmental assessment or environmental impact statement.

Issuance of this permit, as required by the ESA, was based on a finding that such permit (1) was applied for in good faith, (2) will not operate to the disadvantage of the endangered species which is the subject of this permit, and (3) is consistent with the purposes and policies set forth in section 2 of the ESA.

Dated: August 3, 2004.
Jennifer Skidmore,
Acting Chief, Permits, Conservation and Education Division, Office of Protected Resources, National Marine Fisheries Service.

[FR Doc. 04-18051 Filed 8-5-04; 8:45 am]

BILLING CODE 3510-22-S